INTERNATIONAL TRADE COMMISSION

[Investigation Nos. 731-TA-1546-1549 (Final)]

Thermal Paper From Germany, Japan, Korea, and Spain; Notice of Correction Concerning Scheduling of Record Closing and Final Comments

AGENCY: United States International Trade Commission.

ACTION: Correction of notice.

SUMMARY: Correction is made to the October 20, 2021 date of record closing, and the October 22, 2021 deadline for filing final comments, in the Written Submissions section of the notice which was published on June 9, 2021 (86 FR 30627). The correct deadline dates are as follows: The record closing is October 19, 2021; and deadline for final comments is October 21, 2021.

By order of the Commission.
Issued: June 14, 2021.
Lisa Barton,
Secretary to the Commission.

[FR Doc. 2021-13345 Filed 6-23-21; 8:45 am]

BILLING CODE 7020-02-P